Title 3—

The President

Proclamation 9370 of November 19, 2015

National Child's Day, 2015

By the President of the United States of America

A Proclamation

Our greatest obligation is to our daughters and sons. With unbound imagination and limitless dreams, today's young Americans will carry forward our country's legacy and shape the contours of the 21st century and beyond. On National Child's Day, we reaffirm our support for them in all they do, and we uphold our commitment to enabling them with the tools and resources necessary to write the next great chapter of our Nation's story.

All young people deserve to lead safe, healthy lives, and my Administration is working to ensure their well-being. The Affordable Care Act now requires that basic pediatric services, including oral and vision care for children, be covered under all new Health Insurance Marketplace plans. The law also prohibits insurers from excluding coverage of children due to preexisting health conditions and it allows kids to stay on their parents' health care plan until the age of 26. Ensuring the health of our children is vital to their growth and development, which is why First Lady Michelle Obama's Let's Move! initiative is partnering with States, local communities, schools, and the private sector to reduce childhood obesity by promoting healthy foods and encouraging physical activity. We must also continue working to ensure our neighborhoods and classrooms are free from violence and intimidation and instead filled with chances to grow, dream, and discover. I remain committed to equipping law enforcement officials with the training and resources necessary to keep our children safe while working to foster effective relationships between them and the young citizens they serve. And because climate change poses the gravest threat to future generations, we have made combating it a top national priority. We have doubled the pace at which we cut our emissions, set aside more public lands and waters than any Administration in history, and worked to wean ourselves off of our addiction to foreign oil.

Our children must have every opportunity to pursue their greatest aspirations—regardless of their background, their circumstances, or what zip code they were born into. That is why I remain committed to expanding access to high-quality early education for our youngest learners, preparing them for school and for life. Additionally, my Administration has outlined a plan to strengthen and expand our Nation's child care subsidy system to help every working family with young children obtain access to affordable, quality care for their kids—because child care is not just a side issue, it is a national economic priority that provides critical early learning support for students. We have also proposed a new tax cut of up to $3,000 per child, per year to help middle-class families offset the costs of child care. We are also making it easier for young people to attend institutions of higher learning, and we have taken steps to ensure they have access to more reliable Federal financial assistance as they pursue their degree.

Today, let us rededicate ourselves to upholding the ideal that with hard work and dedication, America's children can make of their lives what they will. By supporting our youth and encouraging them to never give up on their dreams, we can forge a brighter future for them, their children and grandchildren, and all future generations.

NOW, THEREFORE, I, BARACK OBAMA, President of the United States of America, by virtue of the authority vested in me by the Constitution and the laws of the United States, do hereby proclaim November 20, 2015, as National Child's Day. I call upon all citizens to observe this day with appropriate activities, programs, and ceremonies, and to rededicate ourselves to creating the bright future we want for our Nation's children.

IN WITNESS WHEREOF, I have hereunto set my hand this nineteenth day of November, in the year of our Lord two thousand fifteen, and of the Independence of the United States of America the two hundred and fortieth.

[FR Doc. 2015-30157

Filed 11-24-15; 8:45 am]

Billing code 3295-F6-P